GENERAL SERVICES ADMINISTRATION

41 CFR Chapter 302

[Notice-MA-2022-11; Docket No. 2022-0002; Sequence No. 24]

Federal Travel Regulation (FTR); Relocation Allowances—Waiver of Certain Provisions of the FTR Chapter 302 for Official Relocation Travel to Locations in Florida, South Carolina, North Carolina, and the Commonwealth of Puerto Rico Impacted by Hurricanes Ian and Fiona

AGENCY: Office of Government-wide Policy (OGP), General Services Administration (GSA).

ACTION: Notification of waiver.

SUMMARY: GSA informs Federal agencies that certain provisions of the FTR governing official relocation travel are temporarily waived for Florida, South Carolina, North Carolina, and the Commonwealth of Puerto Rico locations impacted by Hurricanes Ian and Fiona and that GSA Bulletin FTR 23-03, containing additional details of that waiver, is available.

DATES: October 14, 2022.

Applicability Date: This waiver is retroactively applicable for official relocation travel performed on or after the incident period dates impacted by Hurricanes Ian and Fiona. The FTR Bulletin expires 180 days from the respective effective dates, unless GSA publishes a document in the Federal Register extending or rescinding it.

FOR FURTHER INFORMATION CONTACT: Mr. Rick Miller, Senior Policy Analyst, Office of Government-wide Policy, Office of Asset and Transportation Management, at 202-501-3822 or by email at travelpolicy@gsa.gov. Please cite Notice of GSA Bulletin FTR 23-03.

SUPPLEMENTARY INFORMATION:

Background

Federal agencies authorize relocation entitlements to those individuals listed at FTR § 302-1.1 and those assigned under the Government Employees Training Act (GETA) (5 U.S.C. chapter 41) which must be used within one year. Some agencies will authorize Temporary Quarters Subsistence Expenses (TQSE) and a Househunting trip (HHT) to assist employees with temporary expenses when relocating to the new duty station. The FTR limits the location of where temporary lodging may occur, how long they may receive assistance, and at what per diem rate expenses are based. Hurricanes Ian and Fiona have affected locations in Florida, South Carolina, North Carolina, and the Commonwealth of Puerto Rico, which has resulted in various travel-related disruptions to relocating employees.

As a result of the storm damage caused by Hurricanes Ian and Fiona, agencies should consider delaying all non-essential relocations to the affected areas given the statutory 120-day maximum for TQSE. Due to the lasting effects of the storm damage to these affected areas, finding lodging facilities and/or adequate meals may be difficult, and distance involved may be great, resulting in increased cost for relocation per diem expenses.

Accordingly, GSA allows agencies to determine whether to implement waivers of time limits established by the FTR for completion of all aspects of relocation, temporary quarter's locations at the new duty station and per diem rates for TQSE, and per diem rates for HHTs as of the following dates for the locations specified: (a) September 23, 2022, based on the Presidential Disaster Declaration DR-4673-FL dated September 29, 2022, to the locations in Florida, (b) September 23, 2022, based on the Presidential Disaster Declaration DR-4675 dated September 30, 2022, to the locations in Florida, (c) September 25, 2022, based on the Presidential Disaster Declaration EM-3585-SC dated September 29, 2022, to the locations in South Carolina, (d) September 28, 2022, based on the Presidential Disaster Declaration EM-3586-NC dated October 1, 2022, to the locations in North Carolina, and (e) September 17, 2022, based on the Presidential Disaster Declaration DR-4671-PR dated September 21, 2022, to the locations in the Commonwealth of Puerto Rico.

GSA Bulletin FTR 23-03 can be viewed at https://www.gsa.gov/ftrbulletins.

Saul Japson,
Principal Deputy Associate Administrator, Office of Government-wide Policy.

[FR Doc. 2022-22168 Filed 10-13-22; 8:45 am]

BILLING CODE P